DEPARTMENT OF THE INTERIOR

Bureau of Land Management

[SDM 94312]

Public Land Order No. 7705; Withdrawal of National Forest System Land To Preserve Cave Resources Adjacent to Jewel Cave National Monument; South Dakota

AGENCY: Bureau of Land Management, Interior.

ACTION: Public Land Order.

SUMMARY: This order withdraws 4,595.78 acres of National Forest System land from mining for a period of 20 years to preserve unique cave resources adjacent to Jewel Cave National Monument. The land has been and will remain open to such forms of disposition as may by law be made of National Forest System land and to mineral leasing.

EFFECTIVE DATE: April 18, 2008.

FOR FURTHER INFORMATION CONTACT: Valerie Hunt, U.S. Forest Service, Rocky Mountain Region, 303-275-5122 or Sandra Ward, BLM Montana State Office, 5001 Southgate Drive, Billings, Montana 59101-4669, 406-896-5052.

SUPPLEMENTARY INFORMATION: Geological formations nearby indicate that continued exploration may result in discovery of additional passageways and caverns beyond the known extent of Jewel Cave. This order protects the passageway and caverns extending beyond the exterior boundaries of the Jewel Cave National Monument.

Order

By virtue of the authority vested in the Secretary of the Interior by Section 204 of the Federal Land Policy and Management Act of 1976, 43 U.S.C. 1714 (2000), it is ordered as follows:

1. Subject to valid existing rights, the following described National Forest System land is hereby withdrawn from settlement, sale, location or entry under the United States mining laws (30 U.S.C. Ch. 2 (2000)), to preserve unique cave resources adjacent to the Jewel Cave National Monument:

Black Hills National Forest

Black Hills Meridian

T. 4 S., R. 2 E.,

Sec. 12, E½SW¼ and SE¼;

Sec. 13, E½ and E½NW¼.

T. 4 S., R. 3 E.,

Sec. 5, lot 6 and lots 10 to 16, inclusive;

Sec. 6, lots 1 to 5, inclusive, S½NE¼, SE¼NW¼, and E½SE¼;

Sec. 7, lots 3 and 4, E½NE¼, E½SW¼, and SE¼;

Sec. 8, lots 1 to 16, inclusive;

Sec. 9, lots 4 to 8, inclusive, and lots 11 to 14, inclusive;

Sec. 16, lots 4, 5, 8, and 9, NW¼NW¼ and SE¼SW¼;

Sec. 17, lots 1 to 14, inclusive;

Sec. 18, lots 1 to 4, inclusive, E½, and E½W½;

Sec. 19, lots 1 and 2, NE¼, and E½NW¼;

Sec. 20, lots 1 to 9, inclusive, S½NE¼, SW¼NW¼, NW¼SW¼, S½SW¼, and N½SE¼;

Sec. 21, lots 1 to 9 inclusive, and NW¼SW¼.

The area described contains 4,595.78 acres in Custer County.

3. The withdrawal made by this order does not alter the applicability of those public land laws governing the use of National Forest System land under lease, license, or permit, or governing the disposal of their mineral or vegetative resources other than under the mining laws.

4. This withdrawal will expire 20 years from the effective date of this order unless, as a result of a review conducted before the expiration date pursuant to Section 204(f) of the Federal Land Policy and Management Act of 1976, 43 U.S.C. 1714(f) (2000), the Secretary determines that the withdrawal shall be extended.

Authority: 43 CFR 2310.3-3.

Dated: April 7, 2008.
C. Stephen Allred,
Assistant Secretary—Land and Minerals Management.

[FR Doc. E8-8410 Filed 4-17-08; 8:45 am]

BILLING CODE 3410-11-P